DEPARTMENT OF TRANSPORTATION

Federal Transit Administration

FY 2012 Discretionary Funding Opportunity; Section 5309 Bus and Bus Facilities and Section 5312 National Research Program Veterans Transportation and Community Living Initiative

AGENCY: Federal Transit Administration (FTA), DOT.

ACTION: FTA Veterans Transportation and Community Living Initiative II Grants: Announcement of Project Selections.

SUMMARY: The U.S. Department of Transportation's (DOT) Federal Transit Administration (FTA) announces the selection of projects funded under the Fiscal Year 2012 Veterans Transportation and Community Living Initiative (VTCLI) discretionary grant opportunity, which was announced in the Notice of Funding Availability on February 7, 2012. The 2012 grant program, referred to as “VTCLI II” in this notice, makes funds available to local, state and tribal agencies to create or expand One-Call/One-Click Transportation Resource Centers in their communities. These centers will increase the availability of community transportation resources to veterans, service members and military families and improve the accessibility of existing mobility resources and other transportation information to the whole community. Additionally, they will enable closer coordination of existing transportation services to improve customer experiences and overall efficiency. The VTCLI supports the Obama Administration's priority of supporting America's veterans and military families, as well as the objectives of the Federal Interagency Coordinating Council on Access and Mobility. The initiative is a joint effort of the U.S. Departments of Defense, Health and Human Service, Labor, Transportation and Veterans Affairs.

FOR FURTHER INFORMATION CONTACT: Successful applicants should contact the appropriate FTA Regional Office (Appendix) for specific information regarding applying for the funds. Unsuccessful applicants may contact Erik Weber, Office of Program Management at (202) 366-0705, email: erik.weber@dot.gov, to arrange a proposal debriefing within 30 days of this announcement. For general program information on the Veterans Transportation and Community Living Initiative, contact Erik Weber of the Office of Program Management. A TDD is available at 1-800-877-8339 (TDD/FIRS).

SUPPLEMENTARY INFORMATION: Veterans Transportation and Community Living Initiative Grant Program: Approximately $30 million was made available by FTA for the VTCLI II grant opportunity, with $26.6 million in Section 5309 Bus and Bus Facilities funds and $2.9 million in Section 5312 National Research funds allocated to selected projects. In total, 80 eligible applications requested $40 million. Project proposals were evaluated based on the criteria detailed in the February 7, 2012 Notice of Funding Availability. The projects selected and shown in Table 1 will provide mobility choices to veterans, military families and other community members, increasing their awareness of and access to existing community transportation options and enabling them remain active in their communities. Funds must be used for eligible purposes defined under 49 U.S.C. 5309(b)(3), 5302(a)(1), and 5312(a), and be consistent with the competitive announcement of availability of funds as well as the applicant's proposal. In selecting projects for this program, FTA ensured that an equitable share of the available funds is allocated to projects that are not in urbanized areas.

Project Implementation: So that funds can be obligated expeditiously, grantees selected for competitive discretionary funding should work with their FTA Regional Office to finalize the grant application in FTA's Transportation Electronic Award Management system (TEAM) for the projects identified in the attached table. In cases where the allocation amount is less than the proposer's requested amount, grantees should work with the Regional Office to appropriately reduce the scope in the event specific activities were excluded upon funding selection, or scale the project such that a complete phase or project is accomplished. A discretionary project identification number has been assigned to each project for tracking purposes and must be used in the TEAM application. Section 5309 and Section 5312 funds must be obligated in separate grants and thus have been assigned discrete discretionary project identification numbers for organizations receiving both types of funds. Section 5309-funded awards are identified by a “D2012-BUSP” project identification number, while Section 5312-funded awards have been assigned “D2011-NATR” numbers. Selected projects have not been extended blanket pre-award authority, however, grantees may request pre-award authority and, on a case-by-case basis, FTA Regional Offices may grant it through a Letter of No Prejudice.

FTA Section 5309 funds may only be used for eligible purposes defined under 49 U.S.C. 5309(b)(3) and 5302(a)(1), as described in FTA Circular 9030.1C, and further limited by the February 7, 2012 Federal Register Notice of Funding Availability. Announcement of selection in this notice does not guarantee award of funds to the selected organization until all applicable grant requirements, including presence of eligible local match, are met. Sources of any in-kind match proposed should be discussed with the FTA Regional Office to ensure eligibility. For any VTCLI II projects that include lease of space, please refer to FTA's guidance on Capital Leases found at http://www.fta.dot.gov/grants/12865.html and in Chapter IV, subparagraph 3.j(2) of FTA Circular 5010.1D. For any projects which proposed to use applicant labor to accomplish capital design and engineering tasks, please refer to FTA's guidance on Force Account labor found in Chapter IV, paragraph 4.d of FTA Circular 5010.1D. All capital procurements undertaken with VTCLI II funds must comply with FTA's Third Party Procurement Guidelines found at http://www.fta.dot.gov/legislation_law/12349_8641.html. Any further questions on procurement guidelines should be discussed with the FTA Regional Office. Section 5312 Research funds must adhere to the requirements of the Section 5312 National Research Program, and may be used only for eligible purposes defined under 49 U.S.C. 5312(a) and FTA Circular 6100.1D and further limited by the February 7, 2012 Notice of Funding Availability. Post-award reporting requirements include submission of the Financial Federal Report and Milestone reports in TEAM as appropriate (see FTA Circular 5010.1D) and may include additional reporting specific to the VTCLI II. Recipients also may be expected to participate in events or peer networks related to VTCLI II. Grants which include Section 5312 Research funds may be required to develop a final report or provide data for a consolidated report on the program.

Under the Section 5312 funds available, FTA also is awarding a $500,000 cooperative agreement to the VTCLI Technical Assistance Consortium to carry out general and targeted technical assistance to VTCLI grantees, in order to ensure successful, coordinated outcomes. Each awardee will be assigned a technical assistance facilitator who will help identify areas of need for the project and help carry out the coordinated planning, needs assessment and performance measurement requirements set out in the February 7, 2012 Notice of Funding Availability. Several states and regions have received multiple VTCLI awards. As stated in the Notice, VTCLI II applicants were required to commit to update the appropriate state, regional and/or local coordinated human service transportation plan to address mobility needs of the veteran and military communities. As appropriate, this update should consider opportunities to coordinate between any VTCLI grants (both FY 2011 and FY 2012) within a region or state. The Technical Assistance Consortium will provide assistance in these efforts.

FTA will hold an informational webinar for grantees on Thursday, July 26 2012, to discuss the goals and expectations of the VTCLI and address technical aspects of applying for funds. Further details about the webinar will be posted at http://www.fta.dot.gov/veterans.

The grantee must comply with all applicable Federal statutes, regulations, executive orders, FTA circulars, and other Federal administrative requirements in carrying out the project supported by the FTA grant. By statute, the Section 5309 funds allocated in this announcement must be obligated in a grant by September 30, 2014, but since project readiness was a factor in selection, applicants are expected to apply promptly in order to begin implementing the project within twelve months.

Issued in Washington, DC, this 18th day of July 2012.
Peter Rogoff,
Administrator.

Appendix

FTA Regional and Metropolitan Offices
Mary E. Mello, Deputy Regional Administrator, Region 1—Boston, Kendall Square, 55 Broadway, Suite 920, Cambridge, MA 02142-1093, Tel. 617-494-2055. | Robert C. Patrick, Regional Administrator, Region 6—Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico, and Texas.
Marilyn G. Shazor, Regional Administrator, Region 2—New York, One Bowling Green, Room 429, New York, NY 10004-1415, Tel. 212-668-2170. | Mokhtee Ahmad, Regional Administrator, Region 7—Kansas City, MO, 901 Locust Street, Room 404, Kansas City, MO 64106, Tel. 816-329-3920.
States served: New Jersey, New York. | States served: Iowa, Kansas, Missouri, and Nebraska.
New York Metropolitan Office, Region 2-New York, One Bowling Green, Room 428, New York, NY 10004-1415, Tel. 212-668-2202.
Brigid Hynes-Cherin, Regional Administrator, Region 3—Philadelphia, 1760 Market Street, Suite 500, Philadelphia, PA 19103-4124, Tel. 215-656-7100. | Linda Gehrke, Regional Administrator, Region 8—Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and Wyoming.
Washington DC Metropolitan Office, 1990 K St. NW., Suite 510, Washington, DC 20006, Tel: (202) 219-3562.
Yvette Taylor, Regional Administrator, Region 4—Atlanta, 230 Peachtree Street NW., Suite 800, Atlanta, GA 30303, Tel. 404-865-5600. | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands. | States served: American Samoa, Arizona, California, Guam, Hawaii, Nevada, and the Northern Mariana Islands. Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. | Rick Krochalis, Regional Administrator, Region 10—Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5—Chicago, 200 West Adams Street, Suite 320, Chicago, IL 60606, Tel. 312-353-2789.

BILLING CODE P

[FR Doc. 2012-18073 Filed 7-24-12; 8:45 am]

BILLING CODE C